DEPARTMENT OF JUSTICE

Antitrust Division

Notice Pursuant to the National Cooperative Research and Production Act of 1993—Alliance for Flexible Polyurethane Foam, Inc.

Notice is hereby given that, on January 5, 2009, pursuant to Section 6(a) of the National Cooperative Research and Production Act of 1993, 15 U.S.C. 4301 et seq. (“the Act”), Alliance for Flexible Polyurethane Foam, Inc. (“AFPF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Alliance for Flexible Polyurethane Foam, Inc. (“AFPF”), Loudon, TN. The nature and scope of AFPF's standards development activities are: To develop standards related to flexible polyurethane foam, and to certify flexible polyurethane foam meeting those standards.

Patricia A. Brink,
Deputy Director of Operations, Antitrust Division.

[FR Doc. E9-4020 Filed 2-25-09; 8:45 am]

BILLING CODE 4410-11-M